DEPARTMENT OF COMMERCE

National Oceanic and Atmospheric Administration

Marine Protected Areas Federal Advisory Committee; Public Meeting

AGENCY: National Ocean Service, NOAA, Department of Commerce.

ACTION: Notice of open meeting.

SUMMARY: Notice is hereby given of the first meeting of the Marine Protected Areas Federal Advisory Committee (MPAFAC) in Washington, DC.

DATES: The meeting will be held Tuesday, June 24, from 8:30 a.m. to 5:15 p.m., and Wednesday, June 25, from 8:30 a.m. to 4 p.m. These times and the agenda topics described below may be subject to change. Refer to the web page listed below for the most up-to-date meeting agenda.

ADDRESSES: The meeting will be held both days at the Commerce Department Auditorium, 1401 Constitution Avenue, NW., Washington, DC 20230. (Please use the main entrance on 14th Street).

FOR FURTHER INFORMATION CONTACT: Marjorie Ernst, Designated Federal Officer, MPAFAC, National Marine Protected Areas Center, NOAA, Rm. 12227, 1305 East-West Highway, Silver Spring, Maryland 20910. (Phone: 301-563-7111; Fax: 301-713-3110; E-mail: Marjorie.Ernst@noaa.gov; or visit the National MPA Center Web site at http://www.mpa.gov).

SUPPLEMENTARY INFORMATION: The MPAFAC, composed of external, knowledgeable representatives of stakeholder groups, has been established by the Department of Commerce to provide advice to the Secretaries of Commerce and Interior on implementation of section 4 of Executive Order 13158 on MPAs. While the two-day meeting is open to the public, a one-hour time period has been reserved late in the morning on Wednesday for the Committee to receive verbal comments or questions from the public. In general, each individual or group making a verbal presentation will be limited to a total time of five (5) minutes and written statements submitted either on site or beforehand, if possible.

Matters To Be Considered

On Tuesday, June 24, high-level officials from the Departments of Commerce and the Interior will provide opening remarks, followed by FAC member introductions. Presentations will be made by Commerce Department counsel to orient members regarding Federal Advisory Committee Act requirements and ethical guidelines. In the afternoon, officials from NOAA and the Department of the Interior will present on the background of the Executive Order and an overview of National MPA Center goals and activities. This will be followed by a presentation and discussion of the scope and charge to the Committee.

On Wednesday, June 25, the Committee will elect a chairperson before receiving more detailed presentations to develop the foundation for conducting its work. During the afternoon, the Committee will discuss various administrative and operational matters related to getting organized to fulfill its mission.

Dated: May 14, 2003.
Jamison S. Hawkins,
Acting Assistant Administrator, Ocean Services and Coastal Zone Management, National Oceanic and Atmospheric Administration.

[FR Doc. 03-14139 Filed 6-4-03; 8:45 am]

BILLING CODE 3510-08-M